DEPARTMENT OF COMMERCE

National Oceanic and Atmospheric Administration

Science Advisory Board (SAB); Charter Renewal

AGENCY: Office of Oceanic and Atmospheric Research (OAR), National Oceanic and Atmospheric Administration (NOAA), Department of Commerce (DOC).

ACTION: Notice of renewal of charter.

SUMMARY: Pursuant to the provisions of the Federal Advisory Committee Act (FACA), 5 U.S.C. App., and after consultation with the General Services Administration, the Chief Financial Officer and Assistant Secretary for Administration has determined that renewal of the NOAA Science Advisory Board is in the public interest. The committee has been a successful undertaking and has provided advice to the Under Secretary for Oceans and Atmosphere on strategies for research, education, and application of science to operations and information services. The committee will continue to provide such advice and recommendations in the future. The structure and responsibilities of the Committee are unchanged from when it was originally established in September 1997. The Committee will continue to operate in accordance with the provisions of the Federal Advisory Committee Act.

FOR FURTHER INFORMATION CONTACT: Dr. Elizabeth Turner, Acting Executive Director, Science Advisory Board, NOAA, 35 Colovos Road, Durham, NH 03824. Email: Elizabeth.Turner@noaa.gov; or visit the NOAA SAB Web site at http://www.sab.noaa.gov.

Dated: July 2, 2015.
Jason Donaldson,
Chief Financial Officer, Office of Oceanic and Atmospheric Research, National Oceanic and Atmospheric Administration.

[FR Doc. 2015-16732 Filed 7-7-15; 8:45 am]

BILLING CODE 3510-KD-P